DEPARTMENT OF TRANSPORTATION

Federal Highway Administration

Environmental Impact Statement: Mendocino County, CA

AGENCY: Federal Highway Administration (FHWA), DOT.

ACTION: Notice of intent.

SUMMARY: The FHWA is issuing this notice to advise the public that an Environmental Impact Statement (EIS) will be prepared for a proposed highway project on State Route 101 (SR 101) in Mendocino County, near the town of Hopland, California.

FOR FURTHER INFORMATION CONTACT: Harry Khani, Transportation Engineer, Federal Highway Administration, 980 Ninth Street, Suite 400, Sacramento, California 95814, telephone: (916) 498-5056, e-mail: Harry.Khani@fhwa.dot.gov. Alan Escarda, California Department of Transportation (Caltrans) Project Manager, 1656 Union Street, Eureka, CA 95501, telephone: (707) 441-2097, e-mail: Alan_Escarda@dot.ca.gov.

SUPPLEMENTARY INFORMATION: The FHWA in cooperation with Caltrans proposes to construct a four-lane freeway or expressway on SR 101 in Southern Mendocino County. The project limits extend from kp 14.2 to 28.3 (pm 8.8/17.6). The project will bypass the community of Hopland and upgrade the last section of two-lane conventional highway on SR 101 between Ukia and the San Francisco Bay Area to a four-lane freeway or expressway. The project is needed to reduce operational conflicts, accommodate existing and future traffic demand, reduce travel time, increase safety, improve air quality, reduce noise in Hopland and provide the facility concept identified in the “Inter-regional Transportation Strategic Plan”.

Five alignments are being proposed at this time as well as a “No Build” alternative. All of the alignments potentially affect oak woodlands, riparian forest and pre-historic cultural resources. Letters describing the proposed action and soliciting comments have been sent to appropriate Federal, State, and local agencies, and to private organizations and citizens who have previously expressed or are known to have interest in this proposal. A Public Open House has been held to solicit opinions from the community and a Project Development Team has been formed to determined the scope of the project. In addition, a public hearing will be held when the Draft EIS is complete. Public notice will be given of the time and location of the meetings and hearing. The Draft EIS will be available for public and agency review and comment prior the public hearing. No formal scoping meeting is planned at this time.

To ensure that the full range of issues related to this proposed action are addressed and all significant issues identified, comments and suggestions are invited from all interested parties. Comments or questions concerning this proposed action and the EIS should be directed to the FHWA at the address provided.

(Catalog of Federal Domestic Assistance Program Number 20.205, Highway Research, Planning, and Construction. The regulations implementing Executive Order 12372 regarding intergovernmental consultation on Federal programs and activities apply to this program.)

Issued on: August 13, 2002.
Maiser Khaled,
Chief, District Operations North, California Division, Federal Highway Administration.

[FR Doc. 02-21931 Filed 9-4-02; 8:45 am]

BILLING CODE 4910-22-M